POSTAL RATE COMMISSION

[Docket No. MC2004-3; Order No. 1411]

Negotiated Service Agreement

AGENCY: Postal Rate Commission.

ACTION: Notice and order concerning late-filed Bank One testimony.

SUMMARY: This document informs the public that Bank One has filed a motion for late acceptance of additional testimony in support of a negotiated service agreement with the Postal Service. The document also notes the absence of any previous indication that this testimony might be filed, and states that its acceptance may raise due process concerns given the expedited nature of the case. It explains that participants will be given an opportunity to raise verbal objections to the testimony at the prehearing conference.

DATES: Objections to the Bank One Corporation motion for late acceptance of testimony are due July 15, 2004 (during the prehearing conference).

FOR FURTHER INFORMATION CONTACT: Stephen L. Sharfman, general counsel, at (202) 789-6818.

SUPPLEMENTARY INFORMATION:

Procedural History

Negotiated Service Agreement Proposed Rule, 68 FR 52546 (September 4, 2003).

Negotiated Service Agreement Final Rule, 69 FR 7574 (September 4, 2003).

Rate and Service Changes to Implement Functionally Equivalent Negotiated Service Agreement, 69 FR 39520 (June 25, 2004).

On June 28, 2004, Bank One Corporation filed motion of Bank One Corporation for late acceptance of the testimony of Lawrence G. Buc (Motion).¹ Bank One notes that the Postal Service's request and Bank One witness Rappaport's testimony were filed on June 21, 2004. Bank One asserts that production and coordination difficulties prevented witness Buc's testimony from being filed at that time. It requests late acceptance of witness Buc's testimony, and contends that it believes no party will be prejudiced by this delay.

¹ Contemporaneous with this Motion, Bank One filed direct testimony of Lawrence G. Buc on behalf of Bank One Corporation, June 28, 2004, and the Postal Service filed United States Postal Service notice of review of the direct testimony of Lawrence G. Buc on behalf of Bank One Corporation, June 28, 2004.

The procedural rules for reviewing Postal Service requests predicated on functionally equivalent negotiated service agreements were promulgated with the intent of facilitating expedited review. Decisions can be issued in as little as 60 days. Assuming an expedited schedule, the filing of new testimony 7 days after the filing of the Postal Service's request, without any prior notice in the request of the potential for additional testimony, could be prejudicial and affect the procedural and due process rights of current and potential intervenors.²

The Secretary shall arrange for publication of this notice and order in there Federal Register to advise current and potential participants of the submission of additional testimony on behalf of Bank One. Any objection to the motion to accept this testimony shall be presented at the July 15, 2004 prehearing conference

² Rule 192(a) [39 CFR 3001.192a] requires all prepared direct evidence to be filed simultaneously with the filing of the Postal Service's formal request.

Ordering Paragraphs

It is ordered:

1. Any objection to the Motion of Bank One Corporation for Late Acceptance of the Testimony of Lawrence G. Buc shall be presented at the July 15, 2004 prehearing conference.

2. The Secretary shall arrange for publication of this notice and order in the Federal Register.

Issued: July 2, 2004.
By the Commission.
Steven W. Williams,
Secretary.

[FR Doc. 04-15524 Filed 7-7-04; 8:45 am]

BILLING CODE 7710-FW-P